SMALL BUSINESS ADMINISTRATION

[Declaration of Disaster #3473]

State of Alaska

As a result of the President's major disaster declaration on December 4, 2002, I find that the Kenai Peninsula Borough, Kodiak Island Borough, and Chignik Bay area to include Chignik, Chignik Lake, Chignik Lagoon in the State of Alaska constitute a disaster area due to damages caused by severe winter storms, flooding, coastal erosion and tidal surge occurring on October 23, 2002 and continuing through November 12, 2002. Applications for loans for physical damage as a result of this disaster may be filed until the close of business on February 3, 2003 and for economic injury until the close of business on September 4, 2003 at the address listed below or other locally announced locations: U.S. Small Business Administration, Disaster Area 4 Office, P.O. Box 13795, Sacramento, CA 95853-4795.

In addition, applications for economic injury loans from small businesses located in the following areas and jurisdictions may be filed until the specified date at the above location: Lake and Peninsula Borough, Matunuska-Susitna Borough, Municipality of Anchorage, Chugach Regional Educational Attendance Areas (REAA), and Iditarod Area REAA in the State of Alaska.

The interest rates are:

| Percent
For Physical Damage:
Homeowners with credit available elsewhere: | 5.875
Homeowners without credit available elswhere: | 2.937
Businesses with credit available elsewhere: | 6.648
Businesses and non-profit organizations without credit available elsewhere: | 3.324
Others (including non-profit organizations) with credit available elsewhere: | 5.500
For Economic Injury:
Businesses and Small Agricultural Cooperatives without credit available elswhere: | 3.324

The number assigned to this disaster for physical damage is 347311. For economic injury the number is 9T6600 for Alaska.

(Catalog of Federal Domestic Assistance Program Nos. 59002 and 59008)
Dated: December 9, 2002.
Herbert L. Mitchell,
Associate Administrator for Disaster Assistance.

[FR Doc. 02-31549 Filed 12-13-02; 8:45 am]

BILLING CODE 8025-01-P